DEPARTMENT OF COMMERCE

International Trade Administration

(A-428-816)

Certain Cut-to-Length Carbon Steel Plate from Germany: Final Results of Antidumping Duty Administrative Review

AGENCY: Import Administration, International Trade Administration, Department of Commerce.

SUMMARY: On September 11, 2006, the Department of Commerce (the Department) published the preliminary results of the antidumping (AD) administrative review on certain cut-to-length carbon steel plate (CTL Plate) from Germany. The period of review (POR) is August 1, 2004, through July 31, 2005. See Certain Cut-to-Length Carbon Steel Plate from Germany: Notice of Preliminary Results of Antidumping Duty Administrative Review, 71 FR 53382 (September 11, 2006) (Preliminary Results). This review covers AG der Dillinger Huttenwerke, manufacturer of the subject merchandise, and its U.S. affiliate, Arcelor International America, LLC (AIA) (collectively, Dillinger).

Though Dillinger submitted comments, they did not warrant reconsideration of our preliminary results; therefore, our final results remain unchanged from our preliminary results. The final results are listed in the section Final Results of Review below.

EFFECTIVE DATE: December 14, 2006

FOR FURTHER INFORMATION CONTACT: Stephanie Moore or Dennis McClure, AD/CVD Operations, Office 3, Import Administration, International Trade Administration, U.S. Department of Commerce, 14th Street and Constitution Avenue, NW, Washington, DC 20230; telephone: (202) 482-3692 or (202) 482-5973, respectively.

SUPPLEMENTARY INFORMATION:

Background

On September 11, 2006, the Department published the preliminary results of the administrative review of the AD order on CTL Plate from Germany. See Preliminary Results, 71 FR 53382. This review covers imports of CTL Plate from Dillinger during the POR, August 1, 2004, through July 31, 2005. We invited interested parties to comment on the Preliminary Results.

On October 11, 2006, Dillinger commented that the Department should not make any changes to its Preliminary Results, and that the Department should continue to calculate a de minimis margin in the final. Alternatively, Dillinger stated that if the Department does make any adjustments that would increase the dumping margin above de minimis, then the Department should consider a list of suggestions or issues that Dillinger set forth. The petitioners did not comment on the Preliminary Results. Because the Department is not changing its preliminary results, we have not addressed Dillinger's alternative suggestions.

Scope of the Order

This order covers hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Included in the order are flat-rolled products of non-rectangular cross-section where such cross-section is achieved subsequent to the rolling process (i.e., products which have been “worked after rolling”) for example, products which have been beveled or rounded at the edges. Excluded from this order is grade X-70 plate. Also excluded is certain carbon cut-to-length steel plate with a maximum thickness of 80 mm in steel grades BS 7191, 355 EM, and 355 EMZ, as amended by Sable Offshore Energy Project specification XB MOO Y 15 0001 types 1 and 2.

These HTSUS item numbers are provided for convenience and customs purposes. The written descriptions remain dispositive.

Final Results of Review

As noted above, there have been no changes from the Preliminary Results, therefore, we are not attaching a Decision Memorandum to this Federal Register notice. For further details of the issues addressed in this proceeding, see the Preliminary Results.

As a result of this review, we find that the following weighted-average dumping margin exists:

Producer/Manufacturer | Weighted-Average Margin
Dillinger | 0.16%% (i.e., de minimis)

Assessment Rates

The Department will determine, and Customs and Border Protection (CBP) shall assess, antidumping duties on all appropriate entries, pursuant to section 751(a)(1)(B) of the Tariff Act of 1930, as amended (the Act) and 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue assessment instructions to CBP 15 days after the date of publication of these final results of review.

The Department clarified its “automatic assessment” regulation on May 6, 2003 (68 FR 23954). This clarification will apply to entries of subject merchandise during the POR produced by Dillinger where Dillinger did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

Furthermore, the following deposit requirements will be effective upon publication of the final results of this administrative review for all shipments of CTL Plate from Germany entered, or withdrawn from warehouse, for consumption on or after the publication date of these final results, as provided by section 751(a) of the Act: (1) for the company covered by this review, the cash deposit rate will be zero; (2) for merchandise exported by producers or exporters not covered in this review, but covered in the investigation, the cash deposit rate will continue to be the company-specific rate established in the final determination; (3) if the exporter is not a firm covered in this review or the less-than-fair-value investigation, but the producer is, the cash deposit rate will be the rate established for the producer of the subject merchandise for the most recent period; and (4) if neither the exporter nor the producer is a firm covered in this review or the less-than-fair-value investigation, the cash deposit rate will be 36.00 percent, the “All Others” rate established in the less-than-fair-value investigation. See Antidumping Duty Orders and Amendments to Final Determinations of Sales at Less Than Fair Value: Certain Hot-Rolled Carbon Steel Flat Products, Certain Cold-Rolled Carbon Steel Flat Products, Certain Corrosion-Resistant Carbon Steel Flat Products, and Certain Cut-to-Length Carbon Steel Plate From Germany, 58 FR 44170 (August 19, 1993). These deposit requirements shall remain in effect until publication of the final results of the next administrative review.

Reimbursement of Duties

This notice also serves as a final reminder to importers of their responsibility under 19 CFR 351.402 (f)(2) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Orders

This notice also serves as a reminder to parties subject to administrative protective orders (APOs) of their responsibility concerning the return or destruction of proprietary information disclosed under APO in accordance with 19 CFR 351.305. Timely written notification of the return/destruction of APO materials or conversion to judicial protective order is hereby requested. Failure to comply with the regulations and terms of an APO is a violation that is subject to sanction.

We are issuing and publishing these results and notice in accordance with sections 751(a)(1) and 777(i)(1) of the Act.

Dated: December 7, 2006.
David M. Spooner,
Assistant Secretary for Import Administration.

[FR Doc. E6-21326 Filed 12-13-06; 8:45 am]

BILLING CODE 3510-DS-S